DEPARTMENT OF ENERGY

Federal Energy Regulatory Commission

[Docket No. ER01-2825-001, et al.]

PSEG Services Corporation, et al. Electric Rate and Corporate Regulation Filings

October 15, 2001.

Take notice that the following filings have been made with the Commission:

1. PSEG Services Corporation

[Docket No. ER01-2825-001]

Take notice that on August 15, 2001, PSEG Services Corporation, tendered for filing with the Federal Energy Regulatory Commission (Commission) a supplement to its August 8, 2001 filing submitting Service Agreement covering sale of capacity and energy to Bethlehem Steel Corporation (Bethlehem) pursuant to PSEG Wholesale Power Market-Based Sales Tariff now on file with the Commission (Docket No. 99-3151-000, approved October 1, 1999).

Copies have been sent to the New Jersey Board of Public Utilities.

Comment date: October 26, 2001, in accordance with Standard Paragraph E at the end of this notice.

2. Cambridge Electric Light Company

[Docket No. ER02-43-000]

Take notice that on October 4, 2001, Cambridge Electric Light Company (Cambridge Electric) tendered for filing with the Federal Energy Regulatory Commission (Commission) a non-firm point-to-point transmission service agreement between Cambridge Electric and H.Q. Energy Services (U.S.) Inc. (HQUS). Cambridge Electric states that the service agreement sets out the transmission arrangements under which Cambridge Electric will provide non-firm point-to-point transmission service to HQUS under Cambridge Electric's open access transmission tariff accepted for filing in Docket No. ER01-2291-001. Cambridge Electric requests waiver of the Commission's thirty day notice requirement in order to allow the service agreement to become effective on August 1, 2001.

Comment date: October 25, 2001, in accordance with Standard Paragraph E at the end of this notice.

3. Southern Company Services, Inc.

[Docket No. ER01-2730-001]

Take notice that on October 10, 2001, Southern Company Services, Inc. (SCS), acting on behalf of Alabama Power Company, Georgia Power Company, Gulf Power Company, Mississippi Power Company, and Savannah Electric and Power Company (collectively Southern Companies), filed with the Federal Energy Regulatory Commission (Commission), Amendment No. 1 to the Agreement for Network Integration Transmission Service and Complementary Services between the United States of America, Department of Energy, acting by and through the Southeastern Power Administration (SEPA), and SCS, as agent for Southern Companies, under Southern Companies' Open Access Transmission Tariff, as directed by the Commission's letter order dated September 25, 2001. This compliance filing is made to conform to the requirements of FERC Order No. 614, Designation of Electric Rate Schedule Sheets, 65 FR 18,221 (2000), FERC Stats. & Regs. 31,096 (2000). The Agreement is designated First Revised Service Agreement FERC No. 415 under the Open Access Transmission Tariff of the Southern Companies.

Comment date: October 31, 2001, in accordance with Standard Paragraph E at the end of this notice.

4. Commonwealth Electric Company

[Docket No. ER02-44-000]

Take notice that on October 4, 2001, Commonwealth Electric Company (Commonwealth) tendered for filing with the Federal Energy Regulatory Commission (Commission) a non-firm point-to-point transmission service agreement between Commonwealth and H.Q. Energy Services (U.S.) Inc. (HQUS). Commonwealth states that the service agreement sets out the transmission arrangements under which Commonwealth will provide non-firm point-to-point transmission service to HQUS under Commonwealth open access transmission tariff accepted for filing in Docket No. ER01-2291-001. Commonwealth requests waiver of the Commission's thirty day notice requirement in order to allow the service agreement to become effective on August 1, 2001.

Comment date: October 25, 2001, in accordance with Standard Paragraph E at the end of this notice.

5. Ameren Services Company

[Docket No. ER02-45-000]

Take notice that on October 4, 2001, Ameren Services Company (ASC) tendered for filing with the Federal Energy Regulatory Commission (Commission) Service Agreements for Firm Point-to-Point Transmission Services between ASC and Ameren Energy, Inc. and ASC and Reliant Energy Services, Inc. (the parties). ASC asserts that the purpose of the Agreements is to permit ASC to provide transmission service to the parties pursuant to Ameren's Open Access Transmission Tariff.

Comment date: October 25, 2001, in accordance with Standard Paragraph E at the end of this notice.

6. Consolidated Edison Company of New York, Inc.

[Docket No. ER02-46-000]

Take notice that on October 4, 2001, Consolidated Edison Company of New York, Inc. (Con Edison) tendered for filing with the Federal Energy Regulatory Commission (Commission) an Interconnection Agreement by and between Con Edison and the Power Authority of the State of New York, dated as of August 1, 2001. Con Edison seeks an effective date for the agreement of August 1, 2001.

Comment date: October 25, 2001, in accordance with Standard Paragraph E at the end of this notice.

7. Aquila Long Term, Inc.

[Docket No. ER02-47-000]

Take notice that on October 4, 2001, Aquila Long Term, Inc. (Aquila Long Term), an indirect wholly owned subsidiary of Aquila, Inc., tendered for filing with the Federal Energy Regulatory Commission (Commission) a rate schedule to engage in sales at market-based rates. Aquila Long Term included in its filing a proposed code of conduct.

Comment date: October 25, 2001, in accordance with Standard Paragraph E at the end of this notice.

8. Carolina Power & Light Company

[Docket No. ER02-48-000]

Take notice that on October 4, 2001, Carolina Power & Light Company (CP&L) of Raleigh, North Carolina tendered for filing with the Federal Energy Regulatory Commission (Commission) under the provisions of Section 205 of the Federal Power Act, First Revised Sheet No. 84 in substitution of Original Sheet No. 84 to its First Revised Rate Schedule No. 134 for the provision of electric generation service by CP&L to the North Carolina Electric Membership Corporation (NCEMC). The filing has the effect of eliminating CP&L's 12 kV delivery point at the Louisburg 115 kV substation. In its filing, CP&L also asked for permission to waive the delivery point termination charges that would be owned by NCEMC under Article 7.6.2 of the rate schedule.

CP&L has also asked the Commission to allow its proposed rate schedule change to become effective as of October 8, 2001.

Copies of the filing were served upon NCEMC, Wake Electric Membership Corporation and the state commissions of North Carolina and South Carolina.

Comment date: October 25, 2001, in accordance with Standard Paragraph E at the end of this notice.

9. Commonwealth Edison Company

[Docket No. ER02-49-000]

Take notice that on October 4, 2001, Commonwealth Edison Company (ComEd) submitted for filing with the Federal Energy Regulatory Commission (Commission) an executed Service Agreement for Network Integration Transmission Service (Service Agreement) and associated Network Operating Agreement (Operating Agreement) between ComEd and Exelon Energy (Exelon) under the terms of ComEd's Open Access Transmission Tariff (OATT).

ComEd requests an effective date of October 1, 2001, and accordingly requests waiver of the Commission's notice requirements. A copy of this filing has been sent to Exelon.

Comment date: October 25, 2001, in accordance with Standard Paragraph E at the end of this notice.

10. Commonwealth Edison Company

[Docket No. ER02-50-000]

Take notice that on October 4, 2001, Commnwealth Edison Company (ComEd) submitted for filing with the Federal Energy Regulatory Commission (Commission) two Firm Point-To-Point Transmission Service Agreements (Service Agreements) between ComEd and Wisconsin Electric Power Company (WEPCO) under the terms of ComEd's Open Access Transmission Tariff (OATT).

ComEd requests an effective date of October 1, 2001, and accordingly requests waiver of the Commission's notice requirements. A copy of this filing has been sent to WEPCO.

Comment date: October 25, 2001, in accordance with Standard Paragraph E at the end of this notice.

11. Alliance Energy Services Partnership

[Docket No. ER02-51-000]

Take notice that on October 5, 2001, pursuant to Section 35.15 of the Commission's regulations, Alliance Energy Services Partnership (AESP) submitted for filing with the Federal Energy Regulatory Commission (Commission) a notice of cancellation of its Rate Schedule FERC No. 1 and Rate Schedule FERC No. 2.

AESP has requested an effective date for the proposed rate schedule cancellation of October 4, 2001. Accordingly, AESP requests waiver of the 60-day prior notice requirement.

Comment date: October 26, 2001, in accordance with Standard Paragraph E at the end of this notice.

12. Carolina Power & Light Company

[Docket No. ER02-52-000]

Take notice that on October 5, 2001, Carolina Power & Light Company (CP&L) filed with the Federal Energy Regulatory Commission (Commission), pursuant to Section 205 of the Federal Power Act, an executed Interconnection and Operation Agreement between CP&L and Dominion Person, Inc.

Comment date: October 26, 2001, in accordance with Standard Paragraph E at the end of this notice.

13. Pennsylvania Electric Company

[Docket No. ER02-53-000]

Take notice that on October 5, 2001, Pennsylvania Electric Company (doing business as GPU Energy) submitted for filing with the Federal Energy Regulatory Commission (Commission) a Generation Facility Interconnection Agreement between Pennsylvania Electric Company d/b/a GPU Energy and Somerset Windpower LLC.

Comment date: October 26, 2001, in accordance with Standard Paragraph E at the end of this notice.

14. Cleco Power LLC

[Docket No. ER02-54-000]

Take notice that on October 9, 2001, Cleco Power LLC (Cleco Power), tendered for filing with the Federal Energy Regulatory Commission (Commission) a Substitute Original Sheet No. 4 to Cleco Power's FERC Electric Tariff, Original Volume No. 2. Cleco Power also gave notice that the following service agreements of Cleco Utility Group Inc., that were canceled effective May 29, 2001, will not be refiled as Cleco Power Service Agreements because service is no longer being provided under them:

T2S2

T2S3

T2S4

T2S5

T2S6

T2S7

T2S8

T2S10

T2S11

T2S12

T2S13

T2S15

T2S17

T2S19

T2S21

T2S22

T2S23

Comment date: October 30, 2001, in accordance with Standard Paragraph E at the end of this notice.

15. New England Power Pool

[Docket No. ER02-55-000]

Take notice that on October 9, 2001, the New England Power Pool (NEPOOL) Participants Committee filed notification with the Federal Energy Regulatory Commission (Commission) requesting that the effective date of membership in NEPOOL of EmPower Energy, LLC (EmPower) be deferred until the first day of the calendar month following final regulatory approval permitting EmPower to participate in the NEPOOL Control Area as a load aggregator.

Comment date: October 30, 2001, in accordance with Standard Paragraph E at the end of this notice.

16. Bangor Hydro-Electric Company

[Docket No. ER02-56-000]

Take notice that on October 9, 2001, Bangor Hydro-Electric Company tendered for filing with the Federal Energy Regulatory Commission (Commission) a Notice of Cancellation of its Firm Point-to-Point Transmission Service Agreement (Service Agreement No. 31 of Tariff Volume No. 1) with Beaver Wood Joint Venture to be effective April 30, 2001.

Copies of the filing were served upon the affected purchaser, Beaver Wood Joint Venture, the Maine Public Utilities Commission, and Maine Public Advocate.

Comment date: October 30, 2001, in accordance with Standard Paragraph E at the end of this notice.

17. Aquila Energy Marketing Corporation

[Docket No. EC02-1-000]

Take notice that on October 4, 2001, Aquila Energy Marketing Corporation (AEMC), filed with the Federal Energy Regulatory Commission (Commission) an application for approval pursuant to section 203 of the Federal Power Act and section 33 of the Commission's regulations of the internal transfer of certain power sales and purchase agreements to its wholly owned subsidiary Aquila Long Term, Inc. and for the transfer of AEMC's ownership of Aquila Long Term, Inc., to AEMC's parent Aquila, Inc. AEMC has asked the Commission to approve the Application within forty-five days of filing.

Comment date: November 5, 2001, in accordance with Standard Paragraph E at the end of this notice.

18. Commonwealth Atlantic Limited Partnership and Commonwealth Atlantic Power LLC

[Docket No. EC02-2-000]

Take notice that on October 9, 2001, Commonwealth Atlantic Limited Partnership and Commonwealth Atlantic Power LLC filed with the Federal Energy Regulatory Commission (Commission) an application pursuant to section 203 of the Federal Power Act for authorization of a disposition of an indirect transfer of an approximately 50.04995 percent ownership interest in Commonwealth Atlantic Limited Partnership to Commonwealth Atlantic Power LLC. Commonwealth Atlantic Limited Partnership owns a 310 MW generating facility. The jurisdictional facilities transferred consist of books and records, Commonwealth Atlantic Limited Partnership's market-based rate tariff and related contracts, and the interconnection equipment associated with the generating facility.

Comment date: November 5, 2001, in accordance with Standard Paragraph E at the end of this notice.

19. Elwood Energy LLC

[Docket No. EG01-338-000]

Take notice that on August 1, 2001, Elwood Energy LLC (Elwood) filed with the Federal Energy Regulatory Commission (Commission) an application for redetermination of exempt wholesale generator status pursuant to Part 365 of the Commission's regulations.

Upon completion of the Mergers, Elwood will own, in addition to the generation facilities it owned before the Mergers, those generation facilities formerly owned by Elwood II and Elwood III, all of which previously have been determined by the Commission to eligible facilities in connection with its orders determining Elwood, Elwood II and Elwood III to be exempt wholesale generators. Elwood also will own interconnection facilities, including generator leads, step up transformers and associated circuit breakers, used solely for interconnection with the transmission system of Commonwealth Edison Company.

Comment date: November 5, 2001, in accordance with Standard Paragraph E at the end of this notice. The Commission will limit its consideration of comments to those that concern the adequacy or accuracy of the application.

Standard Paragraph

E. Any person desiring to be heard or to protest such filing should file a motion to intervene or protest with the Federal Energy Regulatory Commission, 888 First Street, NE, Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

David P. Boergers,
Secretary.

[FR Doc. 01-26505 Filed 10-19-01; 8:45 am]

BILLING CODE 6717-01-P